DEPARTMENT OF TRANSPORTATION

Federal Aviation Administration

14 CFR Part 39

[Docket No. FAA-2022-0818; Project Identifier AD-2022-00299-R; Amendment 39-22296; AD 2023-01-02]

RIN 2120-AA64

Airworthiness Directives; Leonardo S.p.a. Helicopters

AGENCY: Federal Aviation Administration (FAA), DOT.

ACTION: Final rule.

SUMMARY: The FAA is adopting a new airworthiness directive (AD) for certain Leonardo S.p.a. Model A109, A109A, A109A II, A109C, A109E, A109K2, A109S, and AW109SP helicopters modified by Supplemental Type Certificate (STC) SR01812LA. This AD was prompted by a report of certain floats not deploying due to a faulty plunger assembly. This AD requires repairing or replacing certain float assemblies. The FAA is issuing this AD to address the unsafe condition on these products.

DATES: This AD is effective February 17, 2023.

ADDRESSES:

AD Docket: You may examine the AD docket at regulations.gov by searching for and locating Docket No. FAA-2022-0818; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Related Service Information:

• For DART Aerospace service information identified in this final rule, contact Apical Industries, Inc., Jason Gardiner, 3030 Enterprise Ct., Vista, CA 92081, United States; phone: (760) 542-2096; email: jgardiner@dartaero.com; website: dartaerospace.com/.

• You may view this service information at the FAA, Office of the Regional Counsel, Southwest Region, 10101 Hillwood Pkwy., Room 6N-321, Fort Worth, TX 76177. For information on the availability of this material at the FAA, call (817) 222-5110.

FOR FURTHER INFORMATION CONTACT: Johann S. Magana, Aerospace Engineer, Cabin Safety & Environmental Systems Section, Los Angeles ACO Branch, Compliance & Airworthiness Division, FAA, 3960 Paramount Blvd., Lakewood, CA 90712; telephone (562) 627-5322; email johann.magana@faa.gov.

SUPPLEMENTARY INFORMATION:

Background

The FAA issued a notice of proposed rulemaking (NPRM) to amend 14 CFR part 39 by adding an AD that would apply to Leonardo S.p.a. Model A109, A109A, A109A II, A109C, A109E, A109K2, A109S, and AW109SP helicopters, modified by STC SR01812LA with A109 Float (with/without Liferafts System) DART Aerospace 634.4100 Kit Series part number (P/N) 634.4101, 634.4102, 634.4103, 634.4104, 634.4106, or 634.4107 with float assembly P/N 644.0501, 644.0502, 644.0503, 644.0504, 644.0505, or 644.0506 installed. The NPRM published in the Federal Register on July 12, 2022 (87 FR 41263).

The NPRM was prompted by a report, received by the FAA, of two forward floats not deploying after an inadvertent activation. It was discovered that the plunger assembly caused the forward floats to not deploy. Further investigation revealed that a design change of the plunger assembly in 2009 inadvertently changed the position of the bushing from a press fit to a threaded fit. The dimensions for the threaded fit were preventing the bushing from fully clearing the ball bearings when bottoming out on the solenoid on the valve assemblies. The plunger assembly is contained within the float assembly and reservoir assembly. An emergency float kit consists of float assemblies, reservoir assemblies, and additional components. These emergency float kits (634.4100 Kit Series) are installed on Leonardo S.p.a. Model A109, A109A, A109A II, A109C, A109E, A109K2, A109S, and AW109SP helicopters modified by STC SR01812LA. In the NPRM, the FAA proposed to require repairing or replacing affected float assemblies with a method approved by the Manager, Los Angeles ACO Branch, FAA. The FAA is issuing this AD to address the unsafe condition on these products.

Discussion of Final Airworthiness Directive

Comments

The FAA received a comment from one commenter, Bristow Group Inc. (VTOL). The following presents the comment received on the NPRM and the FAA's response to the comment.

Request for Credit for Compliance With Service Information

Bristow Group Inc. (VTOL) requested clarification regarding if credit will be given for previous compliance with DART SB2021-05.

The FAA agrees to allow credit for the accomplishment of DART Aerospace Service Bulletin SB2021-05, Revision N/C, dated December 6, 2021, provided those actions were accomplished prior to the effective date of this AD. Accordingly, the FAA has added the Credit for Previous Actions paragraph in this final rule.

Conclusion

The FAA reviewed the relevant data, considered any comments received, and determined that air safety requires adopting this AD as proposed. Accordingly, the FAA is issuing this AD to address the unsafe condition on these products. Except for minor editorial changes and any other changes described previously, this AD is adopted as proposed in the NPRM. None of the changes will increase the economic burden on any operator.

Related Service Information

The FAA reviewed DART Aerospace Service Bulletin SB2021-05, Revision N/C, dated December 6, 2021. This service bulletin specifies replacing certain serial-numbered float assemblies or, if the serial number is not listed in the service bulletin, contacting DART to verify effectivity. The service bulletin also provides procedures for removing the float assemblies from the helicopter, discharging the reservoirs, shipping the float assemblies, and re-installing the float assemblies.

The FAA also reviewed DART Aerospace Instructions for Continued Airworthiness ICA109-1, Rev. U, dated October 27, 2020. This service information provides description, operation, disassembly, inspection, assembly, repair, and testing instructions as well as an illustrated parts list for emergency float kits and emergency float with life raft kits.

Costs of Compliance

The FAA estimates that this AD affects 25 helicopters of U.S. registry. Labor rates are estimated at $85 per work-hour. Based on these numbers, the FAA estimates the following costs to comply with this AD.

Replacing each float assembly takes about 4 work-hours for an estimated cost of $340 per helicopter and up to $8,500 for the U.S. fleet. The FAA has received no definitive data that would enable the FAA to provide parts cost estimates for the required actions; however, according to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-01-02 Leonardo S.p.a.: Amendment 39-22296; Docket No. FAA-2022-0818; Project Identifier AD-2022-00299-R.

(a) Effective Date

This airworthiness directive (AD) is effective February 17, 2023.

(b) Affected ADs

None.

(c) Applicability

This AD applies to Leonardo S.p.a. Model A109, A109A, A109A II, A109C, A109E, A109K2, A109S, and AW109SP helicopters, certificated in any category, modified by Supplemental Type Certificate SR01812LA with A109 Float (with/without Liferafts System) DART Aerospace 634.4100 Kit Series part number (P/N) 634.4101, 634.4102, 634.4103, 634.4104, 634.4106, or 634.4107 with float assembly P/N 644.0501, 644.0502, 644.0503, 644.0504, 644.0505, or 644.0506 installed.

(d) Subject

Joint Aircraft System Component (JASC) Code: 2560, Emergency Equipment.

(e) Unsafe Condition

This AD was prompted by a report of two forward floats not deploying after an inadvertent activation. The FAA is issuing this AD to ensure the affected floats work as intended. The unsafe condition, if not addressed, could result in the helicopter either rolling to one side or capsizing in an event of an emergency landing on water.

(f) Compliance

Comply with this AD within the compliance times specified, unless already done.

(g) Required Actions

Within 300 hours time-in-service or within 6 months after the effective date of this AD, whichever occurs first, remove each float assembly identified in paragraph (c) of this AD and repair or replace it in accordance with a method approved by the Manager, Los Angeles ACO Branch, FAA. For a repair or replacement method to be approved by the Manager, Los Angeles ACO Branch, as required by this paragraph, the Manager's approval letter must specifically refer to this AD.

(h) Credit for Previous Actions

This paragraph provides credit for the actions required by paragraph (g) of this AD, if those actions were accomplished before the effective date of this AD using DART Aerospace Service Bulletin SB2021-05, Revision N/C, dated December 6, 2021.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-LAACO-AMOC-Requests@faa.gov.

(2) Before using any approved AMOC, notify your appropriate principal inspector, or lacking a principal inspector, the manager of the local flight standards district office/certificate holding district office.

(j) Related Information

(1) For more information about this AD, contact Johann S. Magana, Aerospace Engineer, Cabin Safety & Environmental Systems Section, Los Angeles ACO Branch, Compliance & Airworthiness Division, FAA, 3960 Paramount Blvd., Lakewood, CA 90712; telephone (562) 627-5322; email johann.magana@faa.gov.

(2) For DART service information identified in this AD that is not incorporated by reference, contact Apical Industries, Inc., Jason Gardiner, 3030 Enterprise Ct., Vista, CA 92081, United States; phone: (760) 542-2096; email: jgardiner@dartaero.com; website: dartaerospace.com/. You may view this service information at the FAA, Office of the Regional Counsel, Southwest Region, 10101 Hillwood Pkwy., Room 6N-321, Fort Worth, TX 76177. For information on the availability of this material at the FAA, call (817) 222-5110.

(k) Material Incorporated by Reference

None.

Issued on January 4, 2023.
Gaetano A. Sciortino,
Acting Director, Compliance & Airworthiness Division, Aircraft Certification Service.

[FR Doc. 2023-00260 Filed 1-12-23; 8:45 am]

BILLING CODE 4910-13-P